DEPARTMENT OF TRANSPORTATION

Federal Aviation Administration

Transport Airplane and Engine Subcommittee; Meeting

AGENCY: Federal Aviation Administration (FAA), DOT.

ACTION: Notice of Aviation Rulemaking Advisory Committee (ARAC) meeting on transport airplane and engine (TAE) issues.

SUMMARY: This notice announces a public meeting of the FAA's Aviation Rulemaking Advisory Committee (ARAC) Transport Airplane and Engine (TAE) Subcommittee to discuss TAE issues.

DATES: The meeting will be held on Wednesday, November 1, 2017, starting at 9:00 a.m. Pacific Standard Time. Arrange for oral presentations by October 25, 2017.

ADDRESSES: The meeting will take place at 1601 Lind Ave SW., Renton, WA 98057. Participation is open to the public, but will be limited to the availability of teleconference lines.

FOR FURTHER INFORMATION CONTACT: Thuy H. Cooper, Office of Rulemaking, FAA, 800 Independence Avenue SW., Washington, DC 20591, Telephone (202) 267-4715, Fax (202) 267-5075, or email at 9-awa-arac@faa.gov.

SUPPLEMENTARY INFORMATION: Pursuant to Section 10(a)(2) of the Federal Advisory Committee Act (Pub. L. 92-463; 5 U.S.C. app. III), notice is given of an ARAC subcommittee meeting to be held on November 1, 2017.

The agenda for the meeting is as follows:

• Opening Remarks, Review Agenda and Minutes

• FAA Report

• ARAC Report

• Transport Canada Report

• EASA Report

• Flight Test Harmonization Working Group Report

• Metallic and Composite Structures Working Group Report

• Crashworthiness and Ditching Working Group Report

• Any Other Business

• Action Item Review

Participation is open to the public, but will be limited to the availability of teleconference lines.

To participate, please contact the person listed in FOR FURTHER INFORMATION CONTACT by email or phone for the teleconference call-in number and passcode. Please provide the following information: Full legal name, country of citizenship, and name of your industry association, or applicable affiliation. If you are participating as a public citizen, please indicate so. Participants are responsible for any telephone, data usage or other similar expenses related to this meeting.

The public must make arrangements by October 25, 2017, to present oral or written statements at the meeting. Written statements may be presented to the Subcommittee by providing a copy to the person listed in the FOR FURTHER INFORMATION CONTACT section. Copies of the documents to be presented to the Subcommittee may be made available by contacting the person listed in the FOR FURTHER INFORMATION CONTACT section.

If you need assistance or require a reasonable accommodation for the meeting or meeting documents, please contact the person listed in the FOR FURTHER INFORMATION CONTACT section. Sign and oral interpretation, as well as a listening device, can be made available if requested 10 calendar days before the meeting.

Issued in Washington, DC, on October 3, 2017.
Dale Bouffiou,
Alternate Designated Federal Officer, Aviation Rulemaking Advisory Committee.

[FR Doc. 2017-21693 Filed 10-6-17; 8:45 am]

BILLING CODE 4910-13-P